FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

AllBlue Global Transport Services, LLC, 1703 Laurel Springs Ln, Kingwood, TX 77339, Officer: Yvonne L. Bennett-Wallace, Manager (Qualifying Individual).

ATEC Logistics, LLC, 650 South Northlake Blvd., Ste. 400, Altamonte Springs, FL 32701. Officers: Patrick J. Ferry, Managing Member (Qualifying Individual), Michael L. Clements, President.

Eagle Maritime, Inc., 1421 Witherspoon Street, Rahway, NJ 07065. Officer: Dasharath Patade, President (Qualifying Individual).

Westwind Transportation Services Inc. dba, Westwind Container Lines, 1225 W. 190th Street, Ste. 300, Gardena, CA 90248. Officer: Gene Nakamura, Vice President (Qualifying Individual).

Air Ocean Pro's, LLC, 5562 Middlecoff Dr., Huntington Beach, CA 92649. Officer: Gary V. Yaghyazarian, President (Qualifying Individual).

Scrap-n-Ship Logistics Corp., 810 SW 173 Ave., Pembroke Pines, FL 33029. Officer: Nivardo Diaz, President (Qualifying Individual).

Seamaster Logistics, Inc., 780 Nogales Street, Ste. D, City of Industry, CA 91748. Officer: Robert H. Wu, President (Qualifying Individual).

Summit Logistics International, Inc., 800 Federal Boulevard, Carteret, NJ 07008. Officer: Robert H. Wu, President (Qualifying Individual).

Universal Concord, Inc., 148-36 Guy R. Brewer Blvd., Ste. 207, Jamaica, NY 11434. Officer: Minmin Wang, President (Qualifying Individual).

United Shipping Lines, Inc., 15200 East Girard Ave., Ste. 4000, Aurora, CO 80014. Officers: Gregory D. Treco, Vice President (Qualifying Individual).

Hanmi Shipping, Inc., 2694 Coyle Ave., Elk Grove Village, IL 60007. Officer: Keun Joong Jang, President (Qualifying Individual).

Stolt-Nielsen USA Inc., 15635 Jacintoport Boulevard, Houston, TX 77015. Officers: Alan B. Winsor, Secretary (Qualifying Individual).

Coscoex (CGL), Inc., 11854 S. Alameda Street, Lynwood, CA 90262. Officer: David Fernandes, Secretary (Qualifying Individual).

Non-Vessel Operating Common Carrier and Ocean Freight Forwarder Transportation Intermediary Applicant

Hanmi Shipping, Inc., 2694 Coyle Ave., Elk Grove Village, IL 60007. Officer: Keun Joong Jang, President (Qualifying Individual).

GLS Logistics Inc., 147-20 181st Street, Springfield Gardens, NY 11413. Officer: Sandy Castillo, Vice President (Qualifying Individual).

RBA Logistics, Inc., 2804 N. Cannon Blvd., Kannapolis, NC 28083. Officers: Paul L. Blackwelder, Vice President (Qualifying Individual), Mary O. Bare, President.

Green Worldwide Shipping, LLC, 2752 East Ponce de Leon, Ste. I, Decatur, GA 30030. Officer: Thomas Jorgensen, President (Qualifying Individual).

Victory Worldwide Inc., 531 Parkside Drive, Carol Stream, IL 60188. Officer: James S. Yeo, President (Qualifying Individual).

Thunderbird Logistic, Inc., 7735 East Redfield Road, Ste. 100, Scottsdale, AZ 85260. Officers: Shu-Hsia J. Fogle, Vice President, (Qualifying Individual) Xinyang K. Chen, President.

Joker Logistics Exhibitions & Events, Inc., 11301 Metro Airport Center Dr., Ste. 170, Romulus, MI 48174. Officer: Daniel Hradetzky, Vice President (Qualifying Individual).

United Logistics Corp., 3650 Mansell Road, Ste. 400, Alpharetta, GA 30022. Officer: Jason S. Ewing, Operations Manager (Qualifying Individual).

JRC Logistics (SAIPAN), Inc., JRC Compound, Corner Essok Rd. Koblerville, Saipan, MP 96950. Officers: Jijomar R. Espinosa, President (Qualifying Individual), Vergelia E. Espinosa, Vice President.

Netcycle Trading Corp., 8020 NW 87 Street, Miami, FL 33166. Officers: Nadia E. Ledesma, President (Qualifying Individual), Fernando Rincon, Vice President.

United Trading & Shipping Company, 5613 Leesburg Pike, #8, Falls Church, VA 22041. Officers: Ahmad T. Solaiman, General Manager, (Qualifying Individual) Hosam A. Solaiman, Owner.

U.S.A. Export Company, Inc., 14210 Autumn Crest Road, Boyds, MD 20841. Officer: Carlos A. Paqueto, Owner (Qualifying Individual).

LTH Logistics, Inc. dba LTH Express, 11200 S. Hindry Avenue, Ste. D, Los Angeles, CA 90045. Officer: Yopis Tangkilisan, President (Qualifying Individual).

Bekins Independence Forwarders, Inc., 330 S. Mannheim Road, Hillside, IL 60162. Officer: Michael Petersen, President (Qualifying Individual).

Miami International Freight Solutions, LLC, 6301 East 10 Ave., Hialeah, FL 33013. Officers: Leonard C. Roberts, Managing Member (Qualifying Individual), George A. Creech, Managing Member.

Universal Transpacific Carrier, Inc., 100 Lighting Way, Suite 4000, Secaucus, NJ 07094. Officers: Rudy Steudel, Vice President (Qualifying Individual).

Dependable Worldwide Express, LLC, 333 Hegenberger Road, Ste. 315, Oakland, CA 94621. Officer: Julie Lu, Member (Qualifying Individual).

Ocean Freight Forwarder—Ocean Transportation Intermediary Applicants

Penbroke Marino Services Inc., 975 East Linden Avenue, Linden, NJ 07036. Officer: Brian J. Brennan, President (Qualifying Individual).

KN Special Logistics, Inc., 222780 Indian Creek Drive, Ste. 160, Sterling, VA 20166. Officers: Uwe Ellerhorst, Vice President (Qualifying Individual), James W. Sinnott, President.

MJS Trading, Inc., 13350 NW 42nd Ave., Ste. 13, Opa Locka, FL 33054. Officers: Emilia V. Villanueva, Vice President (Qualifying Individual), Maria L. Romero, President.

BC & M Logistics, LLC, 575 Crandon Blvd., Ste. 601, Key Biscayne, FL 33149. Officers: Rodrigo Helou, Manager (Qualifying Individual), Javier Solanet, Owner.

Supreme International Shippers and Movers Inc., 4466 NW 74th Ave., Miami, FL 33166. Officers: John Celmetson, President (Qualifying Individual), Omar Clemetson, Vice President.

United World Freight, LLC, 916 Savitt Place, Union, NJ 07083. Officer: Sunil Gudhka, C.O.O. (Qualifying Individual).

Dated: May 30, 2008.
Karen V. Gregory,
Assistant Secretary.

[FR Doc. E8-12502 Filed 6-3-08; 8:45 am]

BILLING CODE 6730-01-P